DEPARTMENT OF LABOR

Employment and Training Administration

[TA-W-62,422]

Curtain & Drapery Fashions Including On-Site Leased Workers From Paychex Business Solutions, Lowell, NC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on December 19, 2007, applicable to workers of Curtain & Drapery Fashions, Lowell, North Carolina. The notice was published in the Federal Register on January 16, 2008 (72 FR 2943).

At the request of the State agency, the Department reviewed the certification for workers of the subject firm. The workers were engaged in the production of curtains, bedspreads and comforters.

New information shows that leased workers of Paychex Business Solutions were employed on-site at the Lowell, North Carolina location of Curtain & Drapery Fashions. The Department has determined that these workers were sufficiently under the control of Curtain & Drapery Fashions to be considered leased workers.

Based on these findings, the Department is amending this certification to include leased workers of Paychex Business Solutions working on-site at the Lowell, North Carolina location of the subject firm.

The intent of the Department's certification is to include all workers employed at Curtain & Drapery Fashions, Lowell, North Carolina who were adversely impacted by increased customer imports of curtains, bedspreads and comforters.

The amended notice applicable to TA-W-62,422 is hereby issued as follows:

”All workers of Curtain & Drapery Fashions, including on-site leased workers of Paychex Business Solutions, Lowell, North Carolina, who became totally or partially separated from employment on or after November 1, 2006 through December 19, 2009, are eligible to apply for adjustment assistance under section 223 of the Trade Act of 1974, and are also eligible to apply for alternative trade adjustment assistance under section 246 of the Trade Act of 1974.”

Signed at Washington, DC, this 8th day of February 2008.
Elliott S. Kushner,
Certifying Officer, Division of Trade Adjustment Assistance.

[FR Doc. E8-3221 Filed 2-20-08; 8:45 am]

BILLING CODE 4510-FN-P